DEPARTMENT OF LABOR

Employment and Training Administration

Agency Information Collection Activities; Comment Request

ACTION: Notice.

SUMMARY: The Department of Labor's (DOL) Employment and Training Administration (ETA) is soliciting comments concerning a proposed extension for the authority to conduct the information collection request (ICR) titled, “O*NET Data Collection Program.” This comment request is part of continuing Departmental efforts to reduce paperwork and respondent burden in accordance with the Paperwork Reduction Act of 1995 (PRA).

DATES: Consideration will be given to all written comments received by May 28, 2021.

ADDRESSES: A copy of this ICR with applicable supporting documentation, including a description of the likely respondents, proposed frequency of response, and estimated total burden, may be obtained free by contacting Lauren Fairley by telephone at (202) 693-3731 (this is not a toll-free number), TTY 1-877-889-5627 (this is not a toll-free number), or by email at fairley.lauren@dol.gov or by accessing http://www.onetcenter.org/ombclearance.html.

Submit written comments about, or requests for a copy of, this ICR by mail or courier to the U.S. Department of Labor, Employment and Training Administration—Division of National Programs Tools and Technical Assistance, 200 Constitution Avenue NW, C4526, Washington, DC 20210; by email: fairley.lauren@dol.gov; or by fax (202) 693-3015.

FOR FURTHER INFORMATION CONTACT: Contact Lauren Fairley by telephone at (202) 693-3731 (this is not a toll-free number) or by email at fairley.lauren@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The O*NET Data Collection Program is an ongoing effort to collect and maintain current information on the detailed characteristics of occupations and skills for more than 900 occupations. Section 308 of the Workforce Innovation and Opportunity Act (WIOA) authorizes this collection and requires the Secretary of Labor to oversee the “development, maintenance, and continuous improvement of a nationwide workforce and labor market information system” which shall include, among other components, “skill trends by occupation and industry.” The resulting database provides the most comprehensive standardized source of occupational and skills information in the nation. O*NET information is used by a wide range of audiences, including individuals making career decisions, public agencies and schools providing career exploration services or education and training programs, and businesses making staffing and training decisions. The O*NET system provides a common language, framework and database to meet the administrative needs of various federal programs, including workforce investment and training programs supported by funding from the Departments of Labor, Education, and Health and Human Services.

The O*NET database provides:

Detailed information for more than 900 occupations.

Descriptive information using standardized descriptors for skills, abilities, interests, knowledge, work values, education, training, work context, and work activities.

Occupational coding currently based on the 2018 Standard Occupational Classification (SOC) taxonomy.

The O*NET electronic database and related O*NET products and tools have been incorporated into numerous public and private sector products and resources, examples of O*NET use are presented in the O*NET Products at Work (PAW) document at http://www.onetcenter.org/paw.html. These products in turn serve millions of customers.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0421.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: O*NET Data Collection Program.

Form: N/A.

OMB Control Number: 1205-0421.

Affected Public: Private sector (for-profit businesses and not-for-profit organizations); State, local and tribal governments, Federal government, Individuals or Households.

Estimated Number of Respondents: 40,942.

Frequency: Varies.

Total Estimated Annual Responses: 40,942.

Estimated Average Time per Response: Varies.

Estimated Total Annual Burden Hours: 16,446 hours.

Total Estimated Annual Other Cost Burden: $0.

Suzan G. LeVine,
Principal Deputy Assistant Secretary.

[FR Doc. 2021-06387 Filed 3-26-21; 8:45 am]

BILLING CODE 4510-FN-P